DEPARTMENT OF AGRICULTURE

Submission for OMB Review; Comment Request

September 7, 2011.

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Child and Adult Care Food Program (CACFP) Improper Payment Meal Claims Assessment.

OMB Control Number: 0584-NEW.

Summary of Collection: The Improper Payments Information Act (IPIA) of 2002 (Pub. L. 107-300) requires the Food and Nutrition Service (FNS), to provide estimates of erroneous payments in the Child and Adult Care Food Program (CACFP), and to identify and report corrective actions the agency is taking to reduce them. These measures are necessary to enhance the accuracy and integrity of Federal payments in the CACFP. The CACFP reimburses family day care home for serving nutritious meals and snacks to children, especially low-income children who receive day care services in these facilities. The Food and Nutrition Service (FNS), on behalf of the Secretary of Agriculture, is conducting a feasibility evaluation of the parent-recall data collection methodology for validating the number and type of meals claimed for reimbursement by family day care homes (FDCHs) in the CACFP.

Need and use of the Information: Data collection is to be conducted in sixteen states to evaluate whether a parent-recall data collection methodology under evaluation can: (1) Validate the meal reimbursement claims submitted by FDCHs for the number of children who are CACFP eligible and present in the FDCHs during the time period(s) for which the meals/snacks were claimed. (2) Generate data required for developing an estimate of improper payments, based on the meals claimed for reimbursement by FDCHs that meet the requirements of the Improper Payments Information Act of 2002. (3) Be implemented nationwide in an efficient and cost effective method. Observations conducted on-site in the homes of FDSCH providers will be used in the feasibility evaluation. Without the information no assessment of the cost, amount and type of meal claiming errors can be estimated nor can corrective action be developed and implemented.

Description of Respondents: Business or other for-profit; Not-for-profit institutions; State, Local, or Tribal Government; Individuals or households.

Number of Respondents: 1,520.

Frequency of Responses: Report: On occasion.

Total Burden Hours: 2,439.

Food and Nutrition Service

Title: National Assistance in Farmers Markets: Understanding Current Operations.

OMB Control Number: 0584-NEW.

Summary of Collection: The growing obesity crisis in the United States has created urgency among scientists and public health officials to develop and test sustainable programs that improve American diets. Fruits and vegetable intake has been shown to reduce the long term risk of obesity and other chronic diseases such as heart disease and cancer and serves as a market for a healthy diet. However, two thirds of U.S. adults do not meet the USDA Dietary Guidelines for fruit and vegetable intake. The Food and Nutrition Service (FNS) is conducting a new study titled “Nutrition Assistance in Farmers Markets: Understanding Current Operations.” The study, planned for FY 2011-2012 affirms the Food, Nutrition and Consumer Services (FNCS) priority for expanding the farm-food connection in FNS programs. The collection is authorized under paragraph 17(a)(1) of the Food and Nutrition Act of 2008 (7 U.S.C. 2026).

Need and use of the Information: The proposed study involves a national survey of Farmers Market managers and Direct Marketing (DM) farmers to understand their current operations and how those affect participation in USDA nutrition assistance programs. The information gathered in the data collection activities will be used by FNS to understand the characteristics of farmers markets and direct marketing farmers and facilitators and barriers to participating in the Supplemental Nutrition Assistance Program. These data will inform FNS policy decision intended to increase the number of DM farmers and farmers markets that participate as SNAP retailers, as well as improve operations for currently authorized DM farmers and farmers markets. If data is not collected, FNS will be unable to improve its understanding of the farmers' market environment, particularly barriers to participation in nutrition assistance programs by these markets.

Description of Respondents: Business or other for-profit; Individuals or households; Not-for-profit institutions; Farms.

Number of Respondents: 2,859.

Frequency of Responses: Report: On occasion.

Total Burden Hours: 911.

Ruth Brown,
Departmental Information Collection Clearance Officer.

[FR Doc. 2011-23295 Filed 9-12-11; 8:45 am]

BILLING CODE 3410-30-P